DEPARTMENT OF ENERGY

Federal Energy Regulatory Commission

[Docket No. ER03-587-008, et al.]

New York Electric & Gas Corporation, et al.; Electric Rate and Corporate Filings

February 18, 2004.

The following filings have been made with the Commission. The filings are listed in ascending order within each docket classification.

1. New York State Electric & Gas Corporation

[Docket No. ER03-587-008]

Take notice that on February 13, 2004, New York State Electric & Gas Corporation (NYSEG) tendered for filing pursuant to the Commission's April 28, 2003 Order in Docket No. ER03-587-000, FERC Rate Schedule 20 between NYSEG and Pennsylvania Electric Company consistent with Order No. 614, FERC Stats. & Regs., Para. 31,096 (2000).

Comment Date: March 5, 2004.

2. Pacific Gas and Electric Company

[Docket No. ER04-13-002]

Take notice that on February 2, 2004, Pacific Gas and Electric Company (PG&E) tendered for filing a refund report in response to and compliance with the Commission's December 2, 2003 Order on Service Agreements and Establishing Hearing and Settlement Judge Procedures in Docket No. ER04-13-000.

PG&E states that copies have been served upon GWF Energy LLC, the California Independent System Operator Corporation, and the California Public Utilities Commission.

Comment Date: March 4, 2004.

3. White Pine Copper Refinery, Inc.

[Docket No. ER04-262-001]

Take notice that on February 13, 2004, White Pine Copper Refinery, Inc. (White Pine) tendered for filing revisions to its tariff, FERC Electric Tariff, Original Volume No. 1, to include Market Behavior Rules pursuant to the Commission's Orders in Docket No. ER04-262-000, and in Docket Nos. EL01-118-000 and EL01-118-001.

Comment Date: March 5, 2004.

4. Jersey Central Power & Light Company

[Docket No. ER04-366-001]

Take notice that on February 12, 2004, Jersey Central Power & Light Company (JCP&L) tendered for filing a revised Original Sheet No. 1 to its proposed Market-Based Rate Power Sales Tariff (the Tariff), which was submitted on December 31, 2003. JCP&L has asked to have the revised Original Sheet No. 1 be substituted for that submitted on December 31, 2003 and to have the Tariff, as so modified, be permitted to become effective as of December 17, 2003.

Comment Date: February 27, 2004.

5. The Connecticut Light and Power Company

[Docket No. ER04-408-001]

Take notice that on February 13, 2004, Northeast Utilities Service Company (NUSCO), on behalf of its affiliate, The Connecticut Light and Power Company (CL&P), filed the executed Substitute Original Service Agreement No. 104 (the Service Agreement) by and between CL&P and Lake Road Trust (Lake Road) under Northeast Utilities System Companies' Open Access Transmission Tariff No. 10 to replace Original Service Agreement No. 104 filed on January 16, 2004. NUSCO requests an effective date of December 31, 2003 for the Service Agreement, and requests any waivers of the Commission's regulations that may be necessary to permit such an effective date.

NUSCO states that a copy of this filing has been sent to Lake Road.

Comment Date: February 23, 2004.

6. MidAmerican Energy Company

[Docket No. ER04-497-001]

Take notice that on February 11, 2004, MidAmerican Energy Company (MidAmerican) tendered for filing an amendment to its filing of January 20, 2004, regarding proposed variations in the pro forma Large Generator Interconnection Procedures and Large Generator Interconnection Agreement based on existing regional reliability standards applicable to the Mid-Continent Area Power Pool of which MidAmerican is a member.

Comment Date: March 3, 2004.

7. Southern Company Services, Inc.

[Docket No. ER04-554-000]

Take notice that on February 13, 2004, Southern Company Services, Inc., acting on behalf of Georgia Power Company (GPC), filed with the Federal Energy Regulatory Commission a Notice of Cancellation of the Interconnection Agreement between Athens Development Company, L.L.C. and GPC designated as Service Agreement No. 461 under Southern Companies' Open Access Transmission Tariff, Fourth Revised Volume No. 5. An effective date of February 13, 2004 has been requested.

Comment Date: March 5, 2004.

8. Automated Power Exchange, Inc.

[Docket No. ER04-556-000]

Take notice that on February 13, 2004, Automated Power Exchange, Inc. (APX) tendered for filing seven (7) Notices of Termination to terminate its electricity exchange tariffs on file with the Commission effective April 15, 2004.

APX states that it has served a copy of the filing on all Participants in APX's electricity exchange markets.

Comment Date: March 5, 2004.

9. Lowell Power LLC

[Docket No. ER04-557-000]

Take notice that on February 13, 2004, Lowell Power LLC (Lowell Power) submitted for filing to the Commission a Notice of Succession adopting all applicable rate schedules, service agreements, tariffs and supplements thereto previously filed with the Commission by UAE Lowell Power LLC.

Comment Date: March 5, 2004.

10. Virginia Electric and Power Company

[Docket No. ER04-558-000]

Take notice that on February 13, 2004, Virginia Electric and Power Company, doing business as Dominion North Carolina Power, tendered for filing a letter of agreement between North Carolina Municipal Power Agency Number 3 (Power Agency) and Dominion North Carolina Power requested that the Commission make this filing effective on April 13, 2004, sixty days after the date of this filing.

Dominion North Carolina Power states that copies of the filing were served upon the Power Agency, the Virginia State Corporation Commission and the North Carolina Utilities Commission.

Comment Date: March 5, 2004.

11. ISG Sparrows Point LLC

[Docket No. ER04-559-000]

Take notice that on February 13, 2004, ISG Sparrows Point LLC tendered for filing a Notice of Succession stating that ISG Sparrows Point LLC has adopted and succeeded to the rate schedules filed by ISG Sparrows Point Inc. In addition, ISG Sparrows Point LLC filed revised rate schedules.

Comment Date: March 5, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-387 Filed 2-24-04; 8:45 am]

BILLING CODE 6717-01-P